DEPARTMENT OF STATE

[Public Notice: 12710]

Foreign Terrorist Organization Designations of Viv Ansanm and Gran Grif

Based upon a review of the Administrative Records assembled in this matter, and in consultation with the Attorney General and the Secretary of the Treasury, I have concluded that there is a sufficient factual basis to find that the relevant circumstances described in section 219 of the Immigration and Nationality Act, as amended (hereinafter “INA”) (8 U.S.C. 1189), exist with respect to: Viv Ansanm (also known as Living Together, G-9, G9 Family and Allies, G9 Fanmi e Alye, The Revolutionary Forces of the G9 Family and Allies, Fòs Revolisyoné G9 an Fanmi e Alye, G-Pèp, G-People); and Gran Grif (also known as Gran Grif gang, Gran Grif de Savien, Savien gang, Baz Gran Grif).

Therefore, I hereby designate the aforementioned organizations and their respective aliases as Foreign Terrorist Organizations pursuant to section 219 of the INA.

This determination shall be published in the Federal Register. The designations go into effect upon publication.

Dated: April 22, 2025.
Marco Rubio,
Secretary of State.

[FR Doc. 2025-07464 Filed 5-2-25; 8:45 am]

BILLING CODE P